DEPARTMENT OF COMMERCE

National Oceanic and Atmospheric Administration

[I.D. 021207F]

National Marine Fisheries Service, Pacific Fishery Management Council Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 5-9, 2007. The Council meeting will begin on Monday, March 5 at 1 p.m., reconvening each day through Friday. All meetings are open to the public, except a closed session will be held from 1 p.m. until 2 p.m. on Monday, March 5 to address litigation and personnel matters. The Council will meet as late as necessary each day to complete its scheduled business.

ADDRESSES: The meetings will be held at the DoubleTree Hotel Sacramento, 2001 Point West Way, Sacramento, CA 95819; telephone: 916-929-8855.

Council address: Pacific Fishery Management Council, 7700 NE Ambassador Place, Suite 101, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks and Introductions

2. Roll Call

3. Executive Director's Report

4. Approve Agenda

B. Enforcement Issues

1. Enforcement Report: Overview of Joint Enforcement Agreement Program

C. Coastal Pelagic Species Management

1. NMFS Report

2. Stock Assessment Review Panel Terms of Reference for 2007

D. Administrative Matters

1. Future Council Meeting Agenda Planning

2. Review and Planning for Implementation of New Requirements Resulting from Reauthorization of the Magnuson-Stevens Act

3. Approval of Council Meeting Minutes

4. Legislative Matters

5. Appointments to Advisory Bodies, Standing Committees and Other Forums, and Changes to Council Operating Procedures as Needed

6. Council Three-Meeting Outlook, April 2007 Council Meeting Agenda, and Workload Priorities

E. Groundfish Management

1. Groundfish Harvest Policy Evaluation Workshop Report

2. NMFS Report

3. Pacific Whiting Harvest Specifications and Management Measures for 2007

4. Trawl Rationalization (Trawl Individual Quota Program)

5. Consideration of Inseason Adjustments

6. Emergency Rule Limiting 2007 Whiting Vessel Participation

F. Pacific Halibut Management

1. Report on the International Pacific Halibut Commission Meeting

2. Incidental Catch Regulations for the Salmon Troll and Fixed Gear Sablefish Fisheries

G. Salmon Management

1. Review of 2006 Fisheries and Summary of 2007 Stock Abundance Estimates

2. Identification of Management Objectives and Preliminary Definition of 2007 Salmon Management Options

3. Identification of Stocks Not Meeting Conservation Objectives

4. Council Recommendations for 2007 Management Options Analysis

5. Council Direction for 2007 Management Options

6. Adoption of 2007 Management Options for Public Review

7. Salmon Hearings Officers

SCHEDULE OF ANCILLARY MEETINGS
Monday, March 5, 2007 |
Council Secretariat | 8 a.m.
Groundfish Advisory Subpanel | 8 a.m.
Groundfish Management Team | 8 a.m.
Salmon Advisory Subpanel | 8 a.m.
Salmon Technical Team | 8 a.m.
Scientific and Statistical Committee | 8 a.m.
Habitat Committee | 9 a.m.
Legislative Committee | 9:30 a.m.
Enforcement Consultants | 5:30 p.m.
Tribal Policy Group | As necessary
Tribal and Washington Technical Group | As necessary
Washington State Delegation | As necessary
Tuesday, March 6, 2007 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Scientific and Statistical Committee | 8 a.m.
Enforcement Consultants | As necessary
Tribal Policy Group | As necessary
Tribal and Washington Technical Group | As necessary
Washington State Delegation | As necessary
Wednesday, March 7, 2007 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Enforcement Consultants | As necessary
Tribal Policy Group | As necessary
Tribal and Washington Technical Group | As necessary
Washington State Delegation | As necessary
Thursday, March 8, 2007 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Enforcement Consultants | As necessary
Tribal Policy Group | As necessary
Tribal and Washington Technical Group | As necessary
Washington State Delegation | As necessary
Friday, March 9, 2007 |
Council Secretariat | 7 a.m.
California State Delegation | 7 a.m.
Oregon State Delegation | 7 a.m.
Enforcement Consultants | As necessary
Salmon Advisory Subpanel | As necessary
Salmon Technical Team | As necessary
Tribal Policy Group | As necessary
Tribal and Washington Technical Group | As necessary
Washington State Delegation | As necessary

Although nonemergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least five days prior to the meeting date.

Dated: February 13, 2007.
James F. Burgess,
Acting Director, Office of Sustainable Fisheries, National Marine Fisheries Service.

[FR Doc. E7-2742 Filed 2-15-07; 8:45 am]

BILLING CODE 3510-22-S